ENVIRONMENTAL PROTECTION AGENCY

[EPA-HQ-OPP-2010-0001; FRL-8815-5]

SFIREG Environmental Quality Issues Working Committee Meeting

AGENCY: Environmental Protection Agency (EPA).

ACTION: Notice.

SUMMARY: The Association of American Pesticide Control Officials (AAPCO)/State FIFRA Issues Research and Evaluation Group (SFIREG), Environmental Quality Issues (EQI) Working Committee will hold a 2-day meeting, beginning on April 26, 2010, and ending April 27, 2010. This notice announces the location and times for the meeting and sets forth the tentative agenda topics.

DATES: The meeting will be held on Monday, April 26, 2010, from 8:30 a.m. to 5 p.m. and 8:30 a.m to 12 noon on Tuesday, April 27, 2010.

To request accommodations for a disability, please contact the person listed under FOR FURTHER INFORMATON CONTACT, preferably at least 10 days prior to the meeting, to give EPA as much time as possible to process your request.

ADDRESSES: The open meeting will be held at EPA, One Potomac Yard (South Bldg.), 2777 Crystal Dr., Arlington, VA., First Floor, South Conference Room.

FOR FURTHER INFORMATION CONTACT: Ron Kendall, Field and External Affairs Division (7506P), Office of Pesticide Programs, Environmental Protection Agency, 1200 Pennsylvania Ave., NW., Washington, DC 20460-0001; telephone number: (703) 305-5561 fax number: (703) 308-1850; e-mail address: kendall.ron@epa.gov or Grier Stayton, SFIREG, Executive Secretary, P.O. Box 466, Milford, DE 19963; telephone number (302) 422-8152; fax (302) 422-2435; e-mail address: Grier Stayton at aapco-sfireg@comcast.net.

SUPPLEMENTARY INFORMATION:

I. General Information

A. Does this Action Apply to Me?

You may be potentially affected by this action if you are interested in a SFIREG information exchange relationship with EPA regarding important issues related to human health, environmental exposure to pesticides, and insight into EPA’s decision-making process. You are invited and encouraged to attend the meetings and participate as appropriate. Potentially affected entities may include, but are not limited to:

Those persons who are, or may be, required to conduct testing of chemical substances under the Federal Food, Drug and Cosmetics Act (FFDCA), or the Federal Insecticide, Fungicide, and Rodenticide Act (FIFRA).

B. How Can I Get Copies of this Document and Other Related Information?

EPA has established a docket for this action under docket ID number EPA-HQ-OPP-2010-0001. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

Topics may include but are not limited to:

1. Pentachlorophenol-use and disposal of treated articles

2. Interpreting drinking water detections of pesticides

3. NPDES Permitting-an update

4. Evaluating Risks from Semi-Volatile Pesticides

5. Region 5 Benchmark Development/OPP/OW Risk Assessment Harmonization-an update

6. Residential risk assessment

7. Endocrine Disruption Screening Program

8. POINTS-an update

9. Revisions to Worker Risk Assessment

10. OPP/OECA Program-an update

11. Endangered Species Protection-an update

12. Petition to protect children-EPA response

13. Drift PRN-an update and response to comments

14. National Lake Survey

15. EPA to disclosure of inert ingredients-an update

III. How Can I Request to Participate in this Meeting?

This meeting is open for the public to attend. You may attend the meeting without further notification.

List of Subjects

Environmental protection.

Dated: March 5, 2010.
William R. Diamond,
Director, Field and External Affairs Division, Office of Pesticide Programs.

[FR Doc. 2010-5704 Filed 3-16-2010; 8:45 am]

BILLING CODE 6560-50-S